DEPARTMENT OF ENERGY

Federal Energy Regulatory Commission

Notice of Application Accepted for Filing and Soliciting Motions To Intervene and Protests

May 5, 2000.

Take notice that the following hydroelectric application has been filed with the Commission and is available for public inspection:

a. Type of Application: New Major License 5 Megawatts or Less.

b. Project No.: P-2721-013.

c. Date filed: September 28, 1998.

d. Applicant: Penobscot Hydro, LLC.

e. Names of Project: Howland Project.

f. Location: On the Piscataquis River, near the Town of Howland, in Penobscot County, Maine. This project does not utilize any federal lands.

g. Filed Pursuant to: Federal Power Act, 16 USC 791(a)-825(r).

h. Applicant Contact: Mr. Scott Hall, Director of Environmental Services, Penobscot Hydro, LLC, P.O. Box 276, Milford, ME 04461-0276, or call (207) 827-5364.

i. FERC Contact: ED Lee (202) at 219-2808 or E-mail at Ed.Lee@FERC.fed.us.

j. Deadline for filing motions to intervene and protest: 60 days from the issuance date of this notice.

All documents (original and eight copies) should be filed with: David P. Boergers, Secretary, Federal Energy Regulatory Commission, 888 First Street, NE, Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Status of environmental analysis: This application is not ready for environmental analysis at this time.

l. Description of the Project: The project consists of the following existing facilities: (1) A dam, located about 500 feet upstream of the confluence with the Penobscot River, and consisting of: a 114.5-foot-long concrete cutoff wall at the north embankment, a 6-foot-long non-overflow abutment, a 570-foot-long and about 9-foot-high concrete overflow spillway with 3-foot 9-inch-high wooden flashboards, a 85-foot-long gated spillway section with four 9-foot by 9-foot steel roller flood gates, a 20-foot-long non-overflow section containing the exit for the Denil fishway, and a 76-foot-long forebay entrance deck; (2) a 108.5-foot-long, 28.5-foot-wide, and 18-foot-high powerhouse integral with the dam; (3) three turbine generator units, for a total project installed capacity of 1,875 kilowatts (kW); (4) a 4-foot-wide concrete Denil fishway with wooden baffles, for upstream fish passage; (5) downstream fish passage facilities consisting of a 5-foot 9-inch-wide trash sluice gate fitted with a 3-foot 6-inch-deep bellmouth weir, and powerhouse trash racks with one-inch clear spacing; (6) a 4.7-mile-long, 270-acre project reservoir, with a normal reservoir elevation of 148.2 feet (USGS datum); (7) an outdoor substation connected by a short transmission line to the Stanford Substation in West Enfield; and (8) appurtenant facilities. The applicant estimates that the project average annual generation would be 8,300 MWh.

m. Locations of the application: A copy of the application is available for inspection and reproduction at the Commission's Public Reference Room, located at 888 First Street, NE, Room 2A, Washington, D.C. 20246, or by calling (202) 208-1371. This filing may be viewed on the web at http://www.ferc.fed.us/online/rims.htm (call 202-208-2222 for assistance). A copy is also available for inspection and reproduction at the address in item h. above.

n. Individuals desiring to be included on the Commission's mailing list should so indicate by writing to the Secretary of the Commission.

Protests or Motions to Intervene—Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

Filing and Service of Responsive Documents—The application is not ready for environmental analysis at this time; therefore, the Commission is not now requesting comments, recommendations, terms and conditions, or prescriptions.

When the application is ready for environmental analysis, the Commission will issue a public notice requesting comments, recommendations, terms and conditions, or prescriptions.

All filings must (1) bear in all capital letters the title “PROTEST” or “MOTION TO INTERVENE,” (2) set forth in the heading the name of the applicant and the project number of the application to which the filing responds; (3) furnish the name, address, and telephone number of the person protesting or intervening; and (4) otherwise comply with the requirements of 18 CFR 385.2001 through 385.2005. Agencies may obtain copies of the application directly from the applicant. Any of these documents must be filed by providing the original and the number of copies required by the Commission's regulations to: The Secretary, Federal Energy Regulatory Commission, 888 First Street, N.E., Washington, D.C. 20426. An additional copy must be sent to Director, Division of Environmental and Engineering Review, Office of Energy Projects, Federal Energy Regulatory Commission, at the above address. A copy of any protest or motion to intervene must be served upon each representative of the applicant specified in the particular application.

David P. Boergers,
Secretary.

[FR Doc. 00-11777 Filed 5-10-00; 8:45 am]

BILLING CODE 6717-01-M